NATIONAL SCIENCE FOUNDATION

Notice of Permit Modification Received Under the Antarctic Conservation Act of 1978

AGENCY: National Science Foundation.

ACTION: Notice of permit modification requests received and permits issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

DATES: October 6, 2017 to September 1, 2021.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection.

1. NSF issued a permit (ACA 2017-019) to Jerry McDonald, Principal in Charge, Leidos Innovations Group, Antarctic Support Contract, on October 30, 2016. The issued permit allows the applicant to enter five Antarctic Specially Protected Areas (ASPAs) in the Antarctic Peninsula region. The Antarctic Support Contractor's staff provides routine logistics support in the transport of science teams and supporting personnel, and in field camp put-in and take-out. Entry into an ASPA would occur only to support a science project for which a permit has been issued. Entry needs and requirements will be reviewed by ASC Environmental Health and Safety Department prior to entry and reported per standard procedures.

A recent modification to this permit, dated March 9, 2017, permitted the applicant to enter ASPA No. 126, Byers Peninsula, Livingston Island.

Now the applicant proposes a permit modification to enter ASPA No. 161, Terra Nova Bay, Ross Sea and ASPA No. 173, Cape Washington and Silverfish Bay, Terra Nova bay, Ross Sea for the purposes described in this permit. The Environmental Officer has reviewed the modification request and has determined that the amendment is not a material change to the permit, and it will have a less than a minor or transitory impact.

2. NSF issued a permit (ACA 2017-016) to Jerry McDonald, Principal in Charge, Leidos Innovations Group, Antarctic Support Contract, on October 30, 2016. The issued permit allows the applicant to enter nine Antarctic Specially Protected Areas (ASPAs) in the Ross Sea region for the purposes of gathering professional video footage, still photographs, and to interview scientists. Visits to these ASPAs are limited and only occur as logistics and scientific conditions allow. Entry needs and requirements will be reviewed by ASC Environmental Health and Safety Department prior to entry and reported per standard procedures.

Now the applicant proposes to enter ASPA No. 113 Litchfield Island, Arthur Harbor, Anvers Island, Palmer Archipelago for the purposes described in this permit. The Environmental Officer has reviewed the modification request and has determined that the amendment is not a material change to the permit, and it will have a less than a minor or transitory impact. NSF will also add an escort condition to this permit to ensure that the Antarctic Support Contract staff are accompanied by an expert in the values to be protected by the ASPA and to achieve consistency with similar permits issued to non-experts.

These permit modifications were issued on October 6, 2017.

Nadene G. Kennedy,
Polar Coordination Specialist, Office of Polar Programs.

[FR Doc. 2017-22295 Filed 10-13-17; 8:45 am]

BILLING CODE 7555-01-P